SMALL BUSINESS ADMINISTRATION

Advisory Committee on Veterans Business Affairs; Public Meeting

The U.S. Small Business Administration (SBA), pursuant to the Veterans Entrepreneurship and Small Business Development Act of 1999 (Pub. L. 106-50), Advisory Committee on Veterans Business Affairs will host a public meeting on Friday, January 26, 2007, starting at 9 a.m. until 5 p.m. EST. The meeting will take place at SBA, 409 3rd Street, SW., Eisenhower Conference Room, Side B, 2nd Floor, Washington, DC 20416.

The purpose of the meeting is to select the Committee's Chairman and Vice-Chairman and outline the agenda for 2007.

Anyone wishing to attend must contact Cheryl Clark, Program Liaison, Office of Veterans Business Development at (202) 205-6773, or send e-mail to cheryl.clark@sba.gov.

Matthew Teague,
Committee Management Officer.

[FR Doc. E7-613 Filed 1-17-07; 8:45 am]

BILLING CODE 8025-01-P